DEPARTMENT OF JUSTICE

Antitrust Division

Notice Pursuant to the National Cooperative Research and Production Act of 1993—Center for Waste Reduction Technologies (“CWRT”): Inherent Safety and Pollution Prevention Project

Notice is hereby given that, on October 8, 1999, pursuant to section 6(a) of the National Cooperative Research and Production Act of 1993, 15 U.S.C. 4301 et seq. (“the Act”), Center for Waste Reduction Technologies (“CWRT”): Inherent Safety and Pollution Prevention Project has filed written notifications simultaneously with the Attorney General and the Federal Trade Commission disclosing (1) the identities of the parties and (2) the nature and objectives of the venture. The notifications were filed for the purpose of invoking the Act's provisions limiting the recovery of antitrust to actual damages under specified circumstances. Pursuant to section 6(b) of the Act, the identities of the parties are Center for Waste Reduction Technologies, New York, NY; Center for Chemical Process Safety, New York, NY; American Institute of Chemical Engineers, New York, NY; Bristol-Meyers Squibb Co, New York, NY; E.I. Du Pont de Nemours & Co., Wilmington, DE; General Electric Company, Schenectady, NY; Kellogg Brown & Root, Houston, TX; Merck & Company, Whitehouse Station, NJ; Minnesota Mining & Manufacturing Co., St. Paul, MN; Novartis Corp., Summit, NJ; Rohm & Haas Co., Philadelphia, PA; and SmithKline Beecham Corp., King of Prussia, PA. The nature and objectives of the venture are to increase awareness of practitioners in the chemical process industry of the benefits of inherent safety and pollution prevention and to maximize economic return by minimizing risk and environmental impact. The project will have two phrases: (1) To develop an integrated inherent safety and pollution prevention methodology that can be applied to drive continuous improvement in processes and achieve profitability and product performance objectives; (2) to accelerate inherent safety and pollution prevention methodologies into process industries by employing “best practices” as examples and to develop a relevant “training course”.

Participation in this venture will remain open to all qualified persons and organizations. The Participants intend to file additional written notification disclosing all changes in membership.

Constance K. Robinson,
Director of Operations, Antitrust Division.

[FR Doc. 00-12042 Filed 5-11-00; 8:45 am]

BILLING CODE 4410-11-M